CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, the Corporation is soliciting comments on the proposed survey for the AmeriCorps Tutoring Evaluation. The survey will be completed by selected AmeriCorps State and National programs that provide tutoring services and that may be subject to the proposed AmeriCorps standards for tutors and tutoring programs. Many of these programs receive all or part of their funding from the Corporation.

Copies of the information collection requests can be obtained by contacting the office listed in the address section of this notice.

DATES: Written comments must be submitted to the individual and office listed in the ADDRESSES section by April 25, 2006.

ADDRESSES: You may submit comments, identified by the title of the information collection activity, by any of the following methods:

(1) By mail sent to: Corporation for National and Community Service, Attention: Lillian Dote, Program Officer, Office of Research and Policy Development, Room 10901A; 1201 New York Avenue, NW., Washington, DC, 20525.

(2) By hand delivery or by courier to the Corporation's mailroom at Room 8102C, at the street address given in paragraph (1) above, between 9 a.m. and 4 p.m. Monday through Friday, except Federal holidays.

(3) By fax to: (202) 606-3464, Attention: Lillian Dote, Program Officer, Office of Research and Policy Development.

(4) Electronically through the Corporation's e-mail address system: ldote@cns.gov.

FOR FURTHER INFORMATION CONTACT: Lillian Dote, (202) 606-6984, or by e-mail at ldote@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are expected to respond, including the use of appropriate automated, electronic, mechanical, or other technological collection techniques or other forms of information technology (e.g., permitting electronic submissions of responses).

Background

The Corporation is interested in learning about tutoring programs supported by its AmeriCorps State and National programs. The study will provide basic information on the characteristics of AmeriCorps State and National tutoring programs, and will assist the Corporation in providing technical assistance to programs subject to proposed standards for tutors and tutoring programs. The study will also enable the Corporation to determine the feasibility of conducting evaluations of such programs.

Current Action

This is an application for a new data collection.

Type of Review: New.

Agency: Corporation for National and Community Service.

Title: AmeriCorps Tutoring Evaluation.

OMB Number: None.

Agency Number: None.

Affected Public: Tutoring programs receiving funding from AmeriCorps State and National.

Total Respondents: 100.

Frequency: On occasion.

Average Time Per Response: 1 hour.

Estimated Total Burden Hours: 100 hours.

Total Burden Cost (capital/startup): None.

Total Burden Cost (operating/maintenance): None.

Comments submitted in response to this notice will be summarized and/or included in the request for Office of Management and Budget approval of the information collection request; they will also become a matter of public record.

Dated: February 17, 2006.
Robert Grimm,
Director, Office of Research and Policy Development.

[FR Doc. E6-2656 Filed 2-23-06; 8:45 am]

BILLING CODE 6050-$$-P